DEPARTMENT OF HOMELAND SECURITY

Coast Guard

[Docket No. USCG-2016-0061]

Towing Safety Advisory Committee; Vacancies

AGENCY: Coast Guard, DHS.

ACTION: Request for applications.

SUMMARY: The Coast Guard seeks applications for membership on the Towing Safety Advisory Committee. This Committee advises the Secretary of the Department of Homeland Security on matters relating to shallow draft inland and coastal waterway navigation and towing safety.

DATES: Completed applications should reach the Coast Guard on or before March 28, 2016.

ADDRESSES: Applicants should send a cover letter expressing interest in an appointment to the Towing Safety Advisory Committee that identifies which membership category the applicant is applying under, along with a resume detailing the applicant's experience via one of the following methods:

• By Email: William.J.Abernathy@uscg.mil.

• By Fax: (202) 372-8379.

• By Mail: William J. Abernathy, Alternate Designated Federal Officer, Commandant (CG-OES-2), U.S. Coast Guard, Stop 7509, 2703 Martin Luther King Jr. Ave. SE., Washington, DC 20593-7509.

FOR FURTHER INFORMATION CONTACT: William J. Abernathy, Alternate Designated Federal Officer of the Towing Safety Advisory Committee; telephone 202-372-1363; or email at William.J.Abernathy@uscg.mil.

SUPPLEMENTARY INFORMATION: The Towing Safety Advisory Committee is a Federal advisory committee which operates under the provisions of Federal Advisory Committee Act, Title 5 United States Code, Appendix. It was established under authority of the Act to establish a Towing Safety Advisory Committee in the Department of Transportation, (Pub. L. 96-380), which was most recently amended by section 621 of the Coast Guard Authorization Act of 2010, (Pub. L. 111-281). The Committee advises the Secretary of Homeland Security on matters relating to shallow-draft inland and coastal waterway navigation and towing safety. This advice also assists the Coast Guard in formulating the position of the United States regarding the towing industry in advance of International Maritime Organization meetings.

It is expected that the Committee meets at least twice a year either in the Washington, DC, area or in cities with large towing centers of commerce and populated by high concentrations of towing industry and related businesses. It may also meet for extraordinary purposes. Its subcommittees may also meet to consider specific tasks as required. The Committee and its subcommittees may conduct intercessional telephonic meetings, when necessary, in response to specific U.S. Coast Guard taskings.

Each Towing Safety Advisory Committee member serves a term of office of up to 3 years. Members may be considered to serve an additional consecutive term. All members serve without compensation from the Federal Government; however, upon request, they may receive travel reimbursement and per diem.

We will consider applications for the following six positions that will be vacant on September 30, 2016:

1. Three positions representing the Barge and Towing Industry (reflecting a regional geographical balance);

2. One position representing port districts, port authorities or terminal operators;

3. One position representing licensed or unlicensed towing vessel engineers with formal training and experience;

4. One position representing shippers (at least one who represents the carriage of oil or hazardous materials).

To be eligible, applicants should have particular expertise, knowledge, and experience regarding shallow-draft inland and coastal waterway navigation and towing safety.

Registered lobbyists are not eligible to serve on federal advisory committees. See “Revised Guidance on Appointment of Lobbyists to Federal Advisory Committees, Boards, and Commissions” (79 FR 47482, August 13, 2014). Registered lobbyists are lobbyists required to comply with provisions contained in the Lobbying Disclosure act of 1995 (2 U.S.C. 1605; Pub. L. 104-65 as amended by Title II of Pub. L. 110-81).

In an effort to maintain a geographic balance of membership, we are encouraging representatives from tug and barge companies operating on the Western Rivers to apply for representation on the Committee.

The Department of Homeland Security does not discriminate in employment on the basis of race, color, religion, sex, national origin, political affiliation, sexual orientation, gender identity, marital status, disability and genetic information, age, membership in an employee organization, or any other non-merit factor. The Department of Homeland Security strives to achieve a widely diverse candidate pool for all of its recruitment selections.

If you are interested in applying to become a member of the Committee, send your cover letter and resume to William J. Abernathy, Alternate Designated Federal Officer of the Towing Safety Advisory Committee via one of the transmittal methods in the ADDRESSES section by the deadline in the DATES section of this notice. All email submittals will receive email receipt confirmation.

Dated: February 5, 2016.
J.G. Lantz,
Director of Commercial Regulations and Standards, United States Coast Guard.

[FR Doc. 2016-02671 Filed 2-9-16; 8:45 am]

BILLING CODE 9110-04-P